PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995.

DATES: Submit comments on or before January 30, 2024.

ADDRESSES: Comments should be addressed to James Olin, FOIA/Privacy Act Officer. James Olin can be contacted by email at pcfr@peacecorps.gov. Email comments must be made in text and not in attachments.

FOR FURTHER INFORMATION CONTACT: James Olin, Peace Corps, at pcfr@peacecorps.gov or by telephone at (202) 692-2507.

SUPPLEMENTARY INFORMATION:

Title: Annual Coverdale Fellows Census.

OMB Control Number: 0420-***.

Type of Request: New.

Affected Public: Individuals.

Respondents Obligation To Reply: Voluntary.

Burden to the Public:

Estimated Burden (Hours) of the Collection of Information:

a. Number of Respondents: 223.

b. Frequency of Response: 1 time.

c. Completion Time: 15 minutes.

d. Annual Burden Hours: 55.75 hours.

General Description of Collection: The Paul D. Coverdell Fellows program is a graduate school benefit for returned Peace Corps Volunteers (RPCVs). The program, managed by the Peace Corps Office of University Programs, is made in formal partnership with graduate degree granting educational institutions across the United States. The partnering institutions are required to offer financial support to RPCVs who, in turn, complete substantive internships related to their program of study in underserved communities in the United States. The Office of University Programs requires each Coverdell Fellow partner university to submit an annual Census Report to ensure it is meeting the requirements agreed upon in its signed standard Memorandum of Agreement between the Peace Corps and the institution. Collection of this information allows the Peace Corps Office of University Programs to ensure the university is providing all the necessary benefits and support to the Fellows (RPCV graduate school students) enrolled in the program. Although this collection is called a “Census Report” no statistical methods are employed.

Request for Comment: The Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on November 22, 2023.
James Olin,
FOIA/Privacy Act Officer.

[FR Doc. 2023-26157 Filed 11-30-23; 8:45 am]

BILLING CODE 6051-01-P